DEPARTMENT OF COMMERCE

Foreign-Trade Zones Board

[S-117-2015]

Approval of Subzone Status; Springsteen Logistics, LLC; Rock Hill and Fort Lawn, South Carolina

On August 11, 2015, the Executive Secretary of the Foreign-Trade Zones (FTZ) Board docketed an application submitted by the South Carolina State Ports Authority, grantee of FTZ 38, requesting subzone status subject to the existing activation limit of FTZ 38, on behalf of Springsteen Logistics, LLC in Rock Hill and Fort Lawn, South Carolina.

The application was processed in accordance with the FTZ Act and Regulations, including notice in the Federal Register inviting public comment (80 FR 49201, August 17, 2015). The FTZ staff examiner reviewed the application and determined that it meets the criteria for approval. Pursuant to the authority delegated to the FTZ Board Executive Secretary (15 CFR 400.36(f)), the application to establish Subzone 38J is approved, subject to the FTZ Act and the Board's regulations, including § 400.13, and further subject to FTZ 38's 2,000-acre activation limit.

Dated: October 30, 2015.
Andrew McGilvray,
Executive Secretary.

[FR Doc. 2015-28459 Filed 11-6-15; 8:45 am]

BILLING CODE 3510-DS-P